DEPARTMENT OF COMMERCE

International Trade Administration

[A-570-918]

Steel Wire Garment Hangers From the People's Republic of China: Final Results of Expedited Sunset Review of the Antidumping Duty Order

AGENCY: Enforcement and Compliance, formerly Import Administration, International Trade Administration, Department of Commerce.

SUMMARY: On September 3, 2013, the Department of Commerce (“the Department”) initiated the first five-year (“sunset”) review of the antidumping duty order on steel wire garment hangers from the People's Republic of China (“PRC”) pursuant to section 751(c) of the Tariff Act of 1930, as amended (“the Act”). On the basis of a notice of intent to participate and an adequate substantive response filed on behalf of the domestic interested parties, as well as a lack of response from respondent interested parties, the Department conducted an expedited sunset review of the antidumping duty order, pursuant to section 751(c)(3)(B) of the Act and 19 CFR 351.218(e)(1)(ii)(C)(2). As a result of this sunset review, the Department finds that revocation of the antidumping duty order on steel wire garment hangers from the PRC would be likely to lead to continuation or recurrence of dumping at the levels indicated in the “Final Results of Review” section of this notice.

DATES: Effective Date: January 10, 2014.

FOR FURTHER INFORMATION CONTACT: Bob Palmer, Enforcement and Compliance, Office V, International Trade Administration, U.S. Department of Commerce, 14th Street and Constitution Avenue NW., Washington, DC 20230; telephone: (202) 482-9068.

SUPPLEMENTARY INFORMATION:

Background

On September 3, 2013, the Department initiated the first sunset review of the antidumping duty order on steel wire garment hangers from the PRC, pursuant to section 751(c) of the Act and 19 CFR 351.218(c)(1).¹ The Department received a notice of intent to participate from M&B Metal Products Company, Inc., Innovative Fabrication LLP/Indy Hanger, and US Hanger Co., LLC (collectively, “the domestic interested parties”) within the deadline specified in 19 CFR 351.218(d)(1)(i).² The domestic interested parties claimed interested party status under section 771(9)(C) of the Act, as manufacturers of a domestic like product in the United States.

¹ See Initiation of Five-Year (“Sunset”) Review, 78 FR 54237 (September 3, 2013); see also Notice of Antidumping Duty Order: Steel Wire Garment Hangers from the People's Republic of China, 73 FR 58111 (October 6, 2008) (“Order”).

² See Letter from domestic interested parties, re: “Five-Year Review of Steel Wire Garment Hangers from China—Intent to Participate,” dated September 11, 2013.

We received a complete substantive response from the domestic interested parties within the 30-day deadline specified in 19 CFR 351.218(d)(3)(i).³ We received no responses from respondent interested parties. As a result, the Department conducted an expedited sunset review of the Order, pursuant to section 751(c)(3)(B) of the Act and 19 CFR 351.218(e)(1)(ii)(C)(2).

³ See Letter from domestic interested parties, re: “Five-Year Review of Steel Wire Garment Hangers from China—Substantive Response of Domestic Producers to Notice of Initiation,” dated September 30, 2013.

Scope of the Order

The merchandise that is subject to the Order is steel wire garment hangers, fabricated from carbon steel wire, whether or not galvanized or painted, whether or not coated with latex or epoxy or similar gripping materials, and/or whether or not fashioned with paper covers or capes (with or without printing) and/or nonslip features such as saddles or tubes. These products may also be referred to by a commercial designation, such as shirt, suit, strut, caped, or latex (industrial) hangers. Specifically excluded from the scope of the order are wooden, plastic, and other garment hangers that are not made of steel wire. Also excluded from the scope of the order are chrome-plated steel wire garment hangers with a diameter of 3.4 mm or greater. The products subject to the order are currently classified under U.S. Harmonized Tariff Schedule (“HTSUS”) subheadings 7326.20.0020, 7323.99.9060, and 7323.99.9080.

Although the HTSUS subheadings are provided for convenience and customs purposes, the written description of the merchandise is dispositive.

Analysis of Comments Received

All issues raised in this review are addressed in the “Issues and Decision Memorandum for the Expedited Sunset Review of the Antidumping Duty Order on Steel Wire Garment Hangers from the People's Republic of China” (“Decision Memorandum”) from James C. Doyle, Director, Office V, Antidumping and Countervailing Duty Operations, to Christian Marsh, Deputy Assistant Secretary for Antidumping and Countervailing Duty Operations, dated concurrently with and hereby adopted by this notice. The issues discussed in the Decision Memorandum include the likelihood of continuation or recurrence of dumping and the magnitude of the margins likely to prevail if the order was to be revoked. Parties may find a complete discussion of all issues raised in the review and the corresponding recommendations in this public memorandum which is on file electronically via Enforcement and Compliance's Antidumping and Countervailing Duty Centralized Electronic Services System (“IA ACCESS”). Access to IA ACCESS is available in the Central Records Unit room 7046 of the main Commerce building. In addition, a complete version of the Decision Memorandum can be accessed directly on the Web at http://trade.gov/enforcement. The signed Decision Memorandum and the electronic versions of the Decision Memorandum are identical in content.

Final Results of Review

We determine that revocation of the Order would be likely to lead to continuation or recurrence of dumping, with the following dumping margin magnitudes likely to prevail:

Exporter | Weighted-average deposit rate (percent)
Shanghai Wells Hanger Co., Ltd | 15.83
Shaoxing Metal Companies:
Shaoxing Gangyuan Metal Manufacured Co., Ltd
Shaoxing Andrew Metal Manufactured Co., Ltd
Shaoxing Tongzhou Metal Manufactured Co., Ltd | 94.78
Jiangyin Hongji Metal Products Co., Ltd | 55.31
Shaoxing Meideli Metal Hanger Co., Ltd | 55.31
Shaoxing Dingli Metal Clotheshorse Co., Ltd | 55.31
Shaoxing Liangbao Metal Manufactured Co. Ltd | 55.31
Shaoxing Zhongbao Metal Manufactured Co. Ltd | 55.31
Shangyu Baoxiang Metal Manufactured Co. Ltd | 55.31
Zhejiang Lucky Cloud Hanger Co., Ltd | 55.31
Pu Jiang County Command Metal Products Co., Ltd | 55.31
Shaoxing Shunji Metal Clotheshorse Co., Ltd | 55.31
Ningbo Dasheng Hanger Ind. Co., Ltd | 55.31
Jiaxing Boyi Medical Device Co., Ltd | 55.31
Yiwu Ao-Si Metal Products Co., Ltd | 55.31
Shaoxing Guochao Metallic Products Co., Ltd | 55.31
PRC-Wide Rate | 187.25

Notice Regarding Administrative Protective Order (“APO”)

This notice also serves as the only reminder to parties subject to administrative protective order (“APO”) of their responsibility concerning the return or destruction of proprietary information disclosed under APO in accordance with 19 CFR 351.305. Timely notification of the return or destruction of APO materials or conversion to judicial protective order is hereby requested. Failure to comply with the regulations and terms of an APO is a violation which is subject to sanction.

This sunset review and notice are in accordance with sections 751(c), 752(c), and 777(i)(1) of the Act.

Dated: January 2, 2013.
Christian Marsh,
Deputy Assistant Secretary for Antidumping and Countervailing Duty Operations.

[FR Doc. 2014-00170 Filed 1-9-14; 8:45 am]

BILLING CODE 3510-DS-P